DEPARTMENT OF EDUCATION

Inviting Applications for Funds Under the Higher Education Emergency Relief Fund (HEERF), Section 314(a)(2); Coronavirus Response and Relief Supplemental Appropriations Act, 2021 (CRRSAA) for Institutions of Higher Education That Meet the Criteria for the Minority Serving Institutions (MSIs) Program

AGENCY: Office of Postsecondary Education, Department of Education.

ACTION: Notice.

SUMMARY: The Secretary is announcing the availability of new HEERF grant funding under section 314(a)(2) of the CRRSAA for eligible institutions of higher education (institutions) under the Minority Serving Institutions (MSIs) program, Assistance Listing Number 84.425L, to address needs directly related to the coronavirus. The Secretary invites applications from eligible institutions that did not previously receive funding under section 18004(a)(2) of the Coronavirus Aid, Relief, and Economic Security Act (CARES Act) HEERF MSI program and that are included in the CRRSAA Section 314(a)(2) MSI Allocation Table (www.ed2.ed.gov/about/offices/list/ope/crrsaa.html). The institutions eligible for funding under this part include institutions that generally would be eligible to apply for the following grant programs under the Higher Education Act of 1965, as amended (HEA), and that are listed on the CRRSAA Section 314(a)(2) MSI Allocation Table: Title V, part A Developing Hispanic-Serving Institutions; Title V, part B Promoting Post-baccalaureate Opportunities for Hispanic Americans; and certain Title III, part A programs for Minority Serving Institutions, which are the Strengthening Asian American and Native American Pacific Islander-Serving Institutions (AANAPISI), Strengthening Alaska Native and Native Hawaiian-Serving Institutions (ANNH), Strengthening Native American-Serving Nontribal Institutions (NASNTI), and Strengthening Predominantly Black Institutions (PBI) programs. This notice relates to the approved information collection under OMB control number 1840-0843.

DATES:

Applications Available: April 13, 2021.

Deadline for Transmittal of Applications: Applications will be accepted on a rolling basis until July 12, 2021.

ADDRESSES: For the addresses for obtaining and submitting an application, please refer to our Common Instructions for Applicants to Department of Education Discretionary Grant Programs, published in the Federal Register on February 13, 2019 (84 FR 3768) and available at www.govinfo.gov/content/pkg/FR-2019-02-13/pdf/2019-02206.pdf.

FOR FURTHER INFORMATION CONTACT: Karen Epps, U.S. Department of Education, 400 Maryland Avenue SW, Room 250-64, Washington, DC 20202. Telephone: The Department of Education HEERF Call Center at (202) 377-3711. Email: HEERF@ed.gov. Please also visit our HEERF II website at: https://www2.ed.gov/about/offices/list/ope/crrsaa.html.

If you use a telecommunications device for the deaf (TDD) or a text telephone (TTY), call the Federal Relay Service (FRS), toll free, at 1-800-877-8339.

SUPPLEMENTARY INFORMATION:

Full Text of Announcement

Background: On December 27, 2020, the President signed the CRRSAA into law (Pub. L. 116-260). This law makes available approximately $22.7 billion for institutions under the HEERF, with funding appropriated for the existing (a)(1), (a)(2), and (a)(3) programs previously authorized under section 18004 of the CARES Act, as well as funding for a new (a)(4) program authorized under the CRRSAA.

With this notice, the Secretary is announcing the availability of HEERF grant funds under the CRRSAA section 314(a)(2) MSI program (Assistance Listing Number 84.425L).

Eligible institutions are institutions of higher education, as defined in sections 101 and 102(c) of the HEA, 20 U.S.C. 1001 and 1002(c). Allocations for these programs will be calculated according to the formula in section 314(a)(2)(A) of the CRRSAA. Under CRRSAA section 314(c), grant awards under these programs may be used to (1) defray expenses associated with coronavirus (including lost revenue, reimbursement for expenses already incurred, technology costs associated with a transition to distance education, faculty and staff trainings, and payroll); (2) carry out student support activities authorized by the HEA that address needs related to coronavirus; and (3) provide financial aid grants to students (including students exclusively enrolled in distance education), which may be used for any component of the student's cost of attendance or for emergency costs that arise due to coronavirus, such as tuition, food, housing, health care (including mental health care), or child care. In making financial aid grants to students, an institution must prioritize grants to students with exceptional need, such as students who receive Pell Grants. Institutions are urged to make financial aid grants to students to the maximum extent possible.

Section 314(d)(8) of the CRRSAA provides that institutions that previously received grants under section 18004(a)(2) of the CARES Act are not required to submit new or revised applications to receive funding under the CRRSAA section 314(a)(2) MSI program. As a result, the Department will award supplemental funds to eligible institutions that previously received a section 18004(a)(2) award under the CARES Act, Assistance Listing Number 84.425L (identified by a Grant Award beginning with P425L20). No action is required by eligible institutions to receive these supplemental awards. The project director identified on the most current Grant Award Notification (GAN) will automatically receive an email indicating a supplemental award has been made to your institution. Please note that drawing down any amount of these supplemental funds constitutes an institution's acceptance of the new terms and conditions under the CRRSAA and a new Supplemental Agreement, which are included as an attachment to this notice for reference.

Institutions that have not yet complied with the reporting requirements of the HEERF grant program may receive delayed supplemental (a)(2) awards and/or may receive awards with a restriction on the ability to draw down those awarded funds (stop payment status) until the institution has satisfied its HEERF reporting obligations.

Institutions that did not receive a CARES Act section 18004(a)(2) MSI award but that are on the Department's published CRRSAA Section 314(a)(2) MSI Allocation Table may apply for and receive section 314(a)(2) MSI grant awards. Pursuant to CRRSAA section 314(f), an institution must apply for funds within 90 days of the publication of this notice.

Program Authority: Section 314 of the CRRSAA, 2021.

Applicable Regulations: (a) The Education Department General Administrative Regulations in 34 CFR parts 75, 77, 81, 82, 84, 86, 97, 98, and 99. (b) The Office of Management and Budget Guidelines to Agencies on Governmentwide Debarment and Suspension (Non-procurement) in 2 CFR part 180, as adopted and amended as regulations of the Department in 2 CFR part 3485. (c) The Uniform Administrative Requirements, Cost Principles, and Audit Requirements for Federal Awards in 2 CFR part 200, as adopted and amended as regulations of the Department in 2 CFR part 3474.

II. Award Information

Type of Award: Formula grants.

Estimated Available Funds: Approximately $439,994,312 will be used to make awards under this program.

Grant Period: Institutions must expend funds received under this program within 12 months of obligation of the funds by the Department.

III. Eligibility Information

1. Eligible Applicants: Public and private nonprofit institutions, as defined in sections 101 and 102(c) of the HEA, that are eligible for certain programs under part A of title III and parts A and B of title V of the HEA.

2. Cost Sharing or Matching: This program does not require cost sharing or matching.

3. Subgrantees: Subgrantees are not allowed under this program.

IV. Application and Submission Information

1. Application Submission Instructions: Applicants are required to submit their applications using Grants.gov. To register to use Grants.gov, please visit their “How to Apply for Grants” web page (www.grants.gov/applicants/apply-for-grants.html), or call their Applicant Support helpdesk at 1-800-518-4726.

Each completed application for the MSI portion must consist of—

• A complete SF-424;

• Supplemental Information for the SF-424;

• The Certification and Agreement for an Award under Section 314(a)(2) (Purple C&A); and

• The Required Notification of Endowment Excise Tax Paid (if applicable).

Note: The applicant must submit the corresponding Certificate and Agreement for the funds requested. Each Certificate and Agreement must be completed and include the correct OPEID and DUNS number of the institution for which you are requesting funds. Each grantee will receive the amount calculated for them and listed in the Department's published Section 314(a)(2) MSI Allocation Table.

2. Intergovernmental Review: This program is subject to Executive Order 12372 and the regulations in 34 CFR part 79. However, under 34 CFR 79.8(a), we waive intergovernmental review in order to make timely awards.

3. Funding Restrictions: Funding restrictions are specified in each program's Certification and Agreement or Supplemental Agreement.

4. Data Universal Numbering System Number, Taxpayer Identification Number, and System for Award Management: In general, to do business with the Department of Education, you must—

(a) Have a Data Universal Numbering System (DUNS) number and a Taxpayer Identification Number (TIN);

(b) Register both your DUNS number and TIN with the System for Award Management (SAM), the Government's primary registrant database;

(c) Provide your DUNS number and TIN on your SAM application; and

(d) Maintain an active SAM registration with current information while your application is under review by the Department and, if you are awarded a grant, during the project period.

You can obtain a DUNS number from Dun and Bradstreet at the following website: http://fedgov.dnb.com/webform. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active. The SAM registration process can take approximately seven business days, but may take upwards of several weeks, depending on the completeness and accuracy of the data you enter into the SAM database. Thus, if you think you might want to apply for Federal financial assistance under a program administered by the Department, please allow sufficient time to obtain and register your DUNS number and TIN.

If you are currently registered with SAM, you may not need to make any changes. However, please make certain that the TIN associated with your DUNS number is correct. Also note that you will need to update your registration annually. This may take three or more business days. Information about SAM is available at www.SAM.gov. To further assist you with obtaining and registering your DUNS number and TIN in SAM or updating your existing SAM account, we have prepared a SAM.gov Tip Sheet, which you can find at: www2.ed.gov/fund/grant/apply/sam-faqs.html.

V. Award Administration Information

1. Award Notices: If you receive a grant award under this program, we will send you a Grant Award Notification (GAN), or we may send you an email containing a link to access an electronic version of your GAN.

2. Reporting: Reporting requirements are specified in each program's Certification and Agreement or Supplemental Agreement. For transparency and reporting purposes, institutions must continue to publish quarterly on their institutional websites and submit annually to the Department certain reporting requirements, and the Secretary may adjust those requirements to reflect evolving needs. The Department continues to update its interactive Education Stabilization Fund online portal to provide transparency to the public.

VI. Other Information

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Tiwanda Burse,
Deputy Assistant Secretary for Management & Planning, Office of Postsecondary Education. Delegated authority to perform functions and duties of the Assistant Secretary for the Office of Postsecondary Education.

Appendix—Coronavirus Response and Relief Supplemental Appropriations Act, 2021

Certification and Agreement for an Award under Section 314(a)(2) (CFDAs 84.425 J, K, L, M)

Grant Funds for a Section 314(a)(2) Award

The terms, conditions, and requirements governing your institution's (Recipient's) use of these supplemental grant funds awarded pursuant to section 314(a)(2) of the Coronavirus Response and Relief Supplemental Appropriations Act, 2021 (CRRSAA) (Pub. L. 116-260) (award or grant) by the U.S. Department of Education (Department) are governed by section 314 of CRRSAA and the following terms and conditions of this Certification and Agreement (C&A):

Use of Grant Funds

1. Section 314(a)(2) of CRRSAA authorizes the Secretary to make additional awards under parts A and B of title III, parts A and B of title V, and subpart 4 of part A of title VII of the Higher Education Act of 1965, as amended (“HEA”), to address needs directly related to the coronavirus. These awards are in addition to awards made in section 314(a)(1) of CRRSAA and have been allocated by the Secretary proportionally to such programs based on the relative share of funding appropriated to such programs in the Further Consolidated Appropriations Act, 2020 (Pub. L. 116-94).

2. Pursuant to section 314(c) of CRRSAA, Recipient may use this award to defray expenses associated with the coronavirus (including lost revenue, reimbursement for expenses already incurred, technology costs associated with a transition to distance education, faculty and staff trainings, and payroll); carry out student support activities authorized by the HEA that address needs related to the coronavirus; and make financial aid grants to students, which may be used for any component of the student's cost of attendance or for emergency costs that arise due to coronavirus, such as tuition, food, housing, health care (including mental health care), or child care.

3. Recipient acknowledges that no supplemental grant funds may be used to fund contractors for the provision of pre-enrollment recruitment activities; marketing or recruitment; endowments; capital outlays associated with facilities related to athletics, sectarian instruction, or religious worship; senior administrator or executive salaries, benefits, bonuses, contracts, incentives; stock buybacks, shareholder dividends, capital distributions, and stock options; or any other cash or other benefit for a senior administrator or executive.

4. The Secretary urges Recipient to devote the maximum amount of funds possible to financial aid grants to students. The Secretary urges Recipient to take strong measures to ensure that financial aid grants to students are made to the maximum extent possible.

5. Recipient must notify the Department within 30 days of making a determination that it is required to remit payment to the Internal Revenue Service for the excise tax paid on investment income of private colleges and universities under section 4968 of the Internal Revenue Code of 1986 for tax year 2019 via the Required Notification of Endowment Excise Tax Paid form provided as an attachment to this GAN, pursuant to section 314(d)(6) of CRRSAA. Recipient acknowledges that if it was required to remit payment to the Internal Revenue Service for this excise tax paid, and if it is not an institution that has been designated as an eligible work college under HEA section 448, 20 U.S.C. 1087-58:

a. Recipient must use its remaining available funds only for financial aid grants to students consistent with CRRSAA section 314(c)(3), or for sanitation, personal protective equipment, or other expenses associated with the general health and safety of the campus environment related to the qualifying emergency, unless a waiver of this condition has been requested by Recipient and until approved by the Secretary under CRRSAA section 314(d)(6)(B), and subject to other applicable requirements in section 314.

6. If Recipient is a Historically Black College and University, Tribally Controlled College and University, or a Minority Serving Institution, then consistent with section 314(d)(1) of CRRSAA, Recipient may use prior awards provided under Titles III, V, and VII of the HEA to prevent, prepare for, and respond to coronavirus. Should Recipient avail itself of this flexibility, it must maintain appropriate records and cost documentation as required by 2 CFR 200.302 and 200.333 to separately account for prior award funds used to prevent, prepare for, and respond to coronavirus.

Grant Administration

7. Recipient acknowledges that consistent with 2 CFR 200.305, it must minimize the time between drawing down funds from G5 and paying incurred obligations (liquidation). Recipient further acknowledges that if it draws down funds and does not pay the incurred obligations (liquidates) within 3 calendar days it may be subject to heightened scrutiny by the Department, Recipient's auditors, and/or the Department's Office of the Inspector General (OIG). Recipient further acknowledges that returning funds pursuant to mistakes in drawing down excessive grant funds in advance of need may also be subject to heightened scrutiny by the Department, Recipient's auditors, and/or the Department's OIG. Finally, Recipient acknowledges that it must maintain drawn down grant funds in an interest-bearing account, and any interest earned on all Federal grant funds above $500 (all Federal grants together) during an institution's fiscal year must be returned (remitted) to the Federal government via a process described here: https://www2.ed.gov/documents/funding-101/g5-returning-interest.pdf.

8. Recipient may charge indirect costs to supplemental funds made available under this award consistent with its negotiated indirect cost rate agreement. If Recipient does not have a current negotiated indirect cost rate with its cognizant agency for indirect costs, it may appropriately charge the de minimis rate of ten percent of Modified Total Direct Costs (MTDC). Recipient may also charge reasonable direct administrative costs to the supplemental funds made available under this award.

9. Recipient acknowledges that any obligation under this grant (pre-award costs pursuant to 2 CFR 200.458) must have been incurred on or after December 27, 2020, the date of the enactment of CRRSAA.

10. Recipient must promptly and to the greatest extent practicable expend all grant funds from this award within the period of performance (2 CFR 200.77) specified in Box 6 of this Grant Award Notification (GAN).

11. Recipient must, to the greatest extent practicable, continue to pay its employees and contractors during the period of any disruptions or closures related to coronavirus pursuant to section 315 of CRRSAA.

12. Recipient acknowledges that its failure to draw down any amount of its supplemental grant funds within 90 days of the date of this supplemental award will constitute nonacceptance of the terms, conditions, and requirements of this Supplemental Agreement and of these supplemental grant funds. In such event, the Department, in its sole discretion, may choose to deobligate these supplemental grant funds or take other appropriate administrative action, up to and including terminating the grant award pursuant to 2 CFR 200.340.

Reporting and Accountability

13. Recipient must promptly and timely report to the Department on the use of funds no later than 6 months after the date of this supplemental award in a manner to be specified by the Secretary pursuant to section 314(e) of CRRSAA. Recipient must also promptly and timely provide a detailed accounting of the use of funds provided by this supplemental award in such manner and with such subsequent frequency as the Secretary may require. Recipient will comply with any other applicable reporting requirements including those in section 15011(b)(2) of Division B of the CARES Act. Recipient acknowledges the Department may require additional or more frequent reporting to be specified by the Secretary.

14. Recipient must comply with all requirements of the Single Audit Act Amendments of 1996, 31 U.S.C. 7501, et seq. (Single Audit Act) and all applicable auditing standards. Considering that the HEERF grant program is a new program not previously audited or subjected to Department oversight, and the inherent risk that comes with a new program, the Department strongly suggests that the HEERF grant program be audited as a major program in the first fiscal year(s) that the institution received a HEERF grant.

15. Recipient acknowledges it is under a continuing affirmative duty to inform the Department if Recipient is to close or terminate operations as an institution or merge with another institution. In such cases, Recipient must promptly notify in writing the assigned education program specialist contact in Box 3. Additionally, Recipient must promptly notify the assigned education program officer if the Recipient's Authorized Representative changes.

16. Recipient must cooperate with any examination of records with respect to the advanced funds by making records and authorized individuals available when requested, whether by (i) the Department and/or its OIG; or (ii) any other Federal agency, commission, or department in the lawful exercise of its jurisdiction and authority. Recipient must retain all financial records, supporting documents, statistical records, and all other non-Federal entity records pertinent to a Federal award for a period of three years from the date of submission of the final expenditure report pursuant to 2 CFR 200.334.

17. Recipient acknowledges that failure to comply with this Supplemental Agreement, its terms and conditions, and/or all relevant provisions and requirements of CRRSAA or any other applicable law may result in Recipient's liability under the False Claims Act, 31 U.S.C. 3729, et seq.; OMB Guidelines to Agencies on Governmentwide Debarment and Suspension (Nonprocurement) in 2 CFR part 180, as adopted and amended as regulations of the Department in 2 CFR part 3485; 18 U.S.C. 1001, as appropriate; and all of the laws and regulations referenced in the “Applicable Law” section of this Supplemental Agreement, below.

Applicable Law

18. Recipient must comply with all applicable assurances in OMB Standard Forms (SF) SF-424B and SF-424D (Assurances for Non-Construction and Assurances for Construction Programs), including the assurances relating to the legal authority to apply for assistance; access to records; conflict of interest; nondiscrimination; Hatch Act provisions; labor standards; Single Audit Act; and the general agreement to comply with all applicable Federal laws, executive orders, and regulations.

19. Recipient certifies that with respect to the certification regarding lobbying in Department Form 80-0013, no Federal appropriated funds have been paid or will be paid to any person for influencing or attempting to influence an officer or employee of any agency, a Member of Congress, an officer or employee of Congress, or an employee of a Member of Congress in connection with the making or supplementing of Federal grants under this program; Recipient must complete and submit Standard Form-LLL, “Disclosure Form to Report Lobbying,” when required (34 CFR part 82, Appendix B).

20. Recipient must comply with the provisions of all applicable acts, regulations and assurances; the following provisions of Education Department General Administrative Regulations (EDGAR) 34 CFR parts 75, 77, 81, 82, 84, 86, 97, 98, and 99; the OMB Guidelines to Agencies on Governmentwide Debarment and Suspension (Nonprocurement) in 2 CFR part 180, as adopted and amended as regulations of the Department in 2 CFR part 3485; and the Uniform Administrative Requirements, Cost Principles, and Audit Requirements for Federal Awards in 2 CFR part 200, as adopted and amended as regulations of the Department in 2 CFR part 3474.

Institution Name: ____________________
Authorized Representative (typed name): ____________________
Authorized Representative Title: ____________________
DUNS Number: ____________________
OPE ID: ____________________
Date:____________________

Paperwork Burden Statement

According to the Paperwork Reduction Act of 1995, no persons are required to respond to a collection of information unless such collection displays a valid OMB control number. The valid OMB control number for this information collection is XXX-XXX. Public reporting burden for this collection of information is estimated to average 5 hours per response, including time for reviewing instructions, searching existing data sources, gathering, and maintaining the data needed, and completing and reviewing the collection of information. The obligation to respond to this collection is required to obtain or retain benefit (section 314(a)(1) of the Coronavirus Response and Relief Supplemental Appropriations Act, 2021 (Pub. L. 116-260)). If you have any comments concerning the accuracy of the time estimate, suggestions for improving this individual collection, or if you have comments or concerns regarding the status of your individual form, application or survey, please contact Karen Epps, 400 Maryland Avenue SW, Washington, DC 20202 directly.

OMB Number: XXXX-XXXX

Expiration Date: XX/XX/XXXX

[FR Doc. 2021-07658 Filed 4-9-21; 4:15 pm]

BILLING CODE 4000-01-P